ENVIRONMENTAL PROTECTION AGENCY

[9926-61-Region 9]

McClellan Air Force Base Superfund Site; Proposed Notice of Administrative Order on Consent

AGENCY: Environmental Protection Agency (EPA).

ACTION: Notice; Request for Public Comment.

SUMMARY: Notice is hereby given that a proposed administrative order on consent concerning portions of the McClellan Air Force Base Superfund Site (“Site”) in McClellan, California has been negotiated by the Agency and the Respondent, McClellan Business Park, LLC, a Delaware limited liability company. The proposed administrative order on consent concerns cleanup of portions of the Site pursuant to the Comprehensive Environmental Response, Compensation and Liability Act, 42 U.S.C. 9604, 9606 and 9622 (“CERCLA”). Pursuant to a Federal Facilities Agreement (“FFA”), the U.S. Air Force is performing the CERCLA response actions for the Site; however, the FFA was amended to suspend the obligations of the Air Force to conduct the response actions undertaken by the Respondent.

For 30 calendar days following the date of publication of this notice, EPA will receive written comments relating to the proposed administrative order on consent. If requested prior to the expiration of this public comment period, EPA will provide an opportunity for a public meeting in the affected area. EPA's response to any comments received will be available for public inspection at the U.S. Environmental Protection Agency, 75 Hawthorne Street, San Francisco, CA 94105.

DATES: Comments must be submitted on or before May 22, 2015.

Availability: The proposed administrative order on consent may be obtained from Bob Fitzgerald, Project Manager, at (415) 947-4171. Comments regarding the proposed administrative order on consent should be addressed to Thelma Estrada (ORC-3) at United States EPA Region IX, 75 Hawthorne Street, San Francisco, California 94105, and should reference “FOSET #3 Privatization, McClellan Superfund Site,” and “Docket No. 2014-09”.

FOR FURTHER INFORMATION CONTACT: Thelma Estrada, Assistant Regional Counsel (ORC-3), Office of Regional Counsel, U.S. EPA Region IX, 75 Hawthorne Street, San Francisco, CA 94105; Email: estrada.thelma@epa.gov; phone: (415) 972-3866.

SUPPLEMENTARY INFORMATION: The Air Force has prepared a Finding of Suitability for Early Transfer (“FOSET”), which has been subject to a public comment period. The Air Force submitted the FOSET to the Environmental Protection Agency (“EPA”), Region 9, and the State of California for their approval and upon approval of the FOSET, the Air Force will transfer portions of the Site to the County of Sacramento, which will then transfer those portions to the Respondent. The Air Force and the County of Sacramento have entered into an Environmental Services Cooperative Agreement, which requires the County of Sacramento to perform certain CERCLA response actions on the transferred portions of the Site, using funds supplied by the Air Force. The County of Sacramento has contracted with Respondent to conduct those CERCLA response actions. The proposed administrative order on consent would require the Respondent to prepare and perform removal actions and one or more remedial designs and remedial actions for certain contaminants present on the transferred portions of the Site, under the oversight of EPA and the State of California. The administrative order on consent also commits the Respondent to reimburse direct and indirect future response costs incurred by EPA in connection with actions conducted under CERCLA at the transferred portions of the Site.

Dated: March 23, 2015.
Enrique Manzanilla,
Director, Superfund Division, U.S. EPA, Region IX.

[FR Doc. 2015-09260 Filed 4-21-15; 8:45 am]

BILLING CODE 6560-50-P